ENVIRONMENTAL PROTECTION AGENCY

[FRL-6837-3]

Focus Group Meeting on Draft Reference Guide for Public Participation in Permitting Programs

AGENCY: Environmental Protection Agency (EPA).

ACTION: Notice of meeting.

SUMMARY: The Environmental Protection Agency is drafting a Reference Guide (Guide) of the requirements and recommended best practices in public participation for use by states authorized to implement the air, water, and waste permitting programs. The purpose of this focus group meeting is to exchange information on the development and content of the Guide and to seek feedback with the expected outcomes of refining the Guide and the methods for distributing it. Comments and questions from the general public will also be discussed at this meeting. The authority to issue this notice is in the EPA Policy on Public Participation, published on January 19, 1981 at 46 FR 5736.

DATES: The meeting date is Tuesday, August 1, 2000 at the Houston Laboratory. To accommodate the wide range of schedules from all interested parties, two sessions will be held. The first session will be from 2:00 p.m. to 5:00 p.m., and then 7:00 p.m. to 10:00 p.m (CST).

ADDRESSES: Environmental Protection Agency Laboratory, 10625 Fallstone Rd., Houston, Texas 77099, phone, 281-983-2100.

FOR FURTHER INFORMATION CONTACT: David S. Nicholas, U.S. EPA, 1200 Pennsylvania Avenue NW (5103) Washington DC 20460, phone: (202) 260-4512, facsimile: (202) 401-1496 or email: nicholas.david@epa.gov

SUPPLEMENTARY INFORMATION: The Guide describes the current public participation requirements within the EPA programs and discusses how all permitting programs can effectively inform and involve the public during the permitting process. This document has undergone significant review by EPA's media program offices as well as the Environmental Council of States (ECOS) and the National Environmental Justice Advisory Council (NEJAC). In addition, a focus group meeting was held in Washington DC on June 26, and was attended by a number of associations with permitting expertise, environmental groups, and industry. The purpose of these focus group meetings is to obtain comments on what information needs to be in the Guide in order for it to be a valuable resource. While the Guide will be available to the public and to regulated entities, the primary audience for the Guide is the regulating community, specifically the states and tribes that are authorized to implement these programs. To prepare for the upcoming meeting participants should focus their review and comments around these questions:

(1) Are the events, processes, and/or milestones that occur in the permitting process that currently provide meaningful public involvement accurately described in the Guide?

(2) Are there any lessons you have learned in the permitting process that lend themselves to developing a comprehensive effective strategy for community involvement (milestones, steps, key principles/actions)?

(3) Are there any potential regulatory gaps in existing public participation activities?

As a point of clarification, this public participation Guide does not address Title VI issues. It is important to note that while EPA's Office of Civil Rights plans to hold a public listening session to receive comments on the new Title VI Guidance document in Dallas, Texas, these are separate EPA initiatives. Again, the Guide that will be discussed at the August 1 meeting will only address public participation activities within the context of EPA's existing permitting regulations.

Individuals requiring special accommodation at this meeting, including wheelchair access to the conference room, should contact EPA at least five business days prior to the meeting so that appropriate arrangements can be made.

Dated: July 7, 2000.
Timothy Fields, Jr.,
Assistant Administrator, Office of Solid Waste and Emergency Response.

[FR Doc. 00-18027 Filed 7-14-00; 8:45 am]

BILLING CODE 6560-50-P